DEPARTMENT OF COMMERCE

International Trade Administration

[A-580-874]

Certain Steel Nails From the Republic of Korea: Preliminary Results of Antidumping Duty Administrative Review and Partial Rescission of Antidumping Duty Administrative Review; 2020-2021

AGENCY: Enforcement and Compliance, International Trade Administration, Department of Commerce.

SUMMARY: The U.S. Department of Commerce (Commerce) preliminarily determines that Daejin Steel Company (Daejin) and Korea Wire Co., Ltd. (KOWIRE), the producers and/or exporters subject to this administrative review, made sales of certain steel nails (steel nails) from the Republic of Korea (Korea) at less than normal value (NV) during the period of review (POR) July 1, 2020, through June 30, 2021.

DATES: Applicable August 4, 2022.

FOR FURTHER INFORMATION CONTACT: Eva Kim and Reginald Anadio, AD/CVD Operations, Office IV, Enforcement and Compliance, International Trade Administration, U.S. Department of Commerce, 1401 Constitution Avenue NW, Washington, DC 20230; telephone: (202) 482-8283 or (202) 482-3166, respectively.

SUPPLEMENTARY INFORMATION:

Background

On July 13, 2015, Commerce published the Order in the Federal Register.¹ On July 1, 2021, we published a notice of opportunity to request an administrative review of the Order.² On September 7, 2021, based on timely requests for review, in accordance with section 751(a) of the Tariff Act of 1930, as amended (the Act), we initiated an administrative review of the Order on steel nails from Korea covering the following individually-examined companies: Daejin and KOWIRE.³ On March 11, 2022, pursuant to section 751(a)(3)(A) of the Act, Commerce extended the preliminary results of this review to no later than July 29, 2022.⁴ For a complete description of the events that followed the initiation of this review, see the Preliminary Decision Memorandum.⁵

¹ See Certain Steel Nails from the Republic of Korea, Malaysia, the Sultanate of Oman, Taiwan, and the Socialist Republic of Vietnam: Antidumping Duty Orders, 80 FR 39994 (July 13, 2015) (Order).

² See Antidumping or Countervailing Duty Order, Finding, or Suspended Investigation; Opportunity To Request Administrative Review, 86 FR 35065 (July 1, 2021).

³ See Initiation of Antidumping and Countervailing Duty Administrative Reviews, 86 FR 50034 (September 7, 2021).

⁴ See Memorandum, “Certain Steel Nails from the Republic of Korea: Extension of Deadline for Preliminary Results of the 2020-2021 Antidumping Duty Administrative Review,” dated March 11, 2022.

⁵ See Memorandum, “Decision Memorandum for the Preliminary Results of the Administrative Review of the Antidumping Duty Order on Certain Steel Nails from the Republic of Korea; 2020-2021,” dated concurrently with, and hereby adopted by, this notice (Preliminary Decision Memorandum).

Partial Rescission of Administrative Review

Pursuant to 19 CFR 351.213(d)(1), Commerce will rescind an administrative review, in whole or in part, if a party who requested the review withdraws the request within 90 days of the date of publication of the notice of initiation of the requested review. On July 29, 2021, Mid Continent Steel & Wire, Inc. (the petitioner) requested an administrative review of 213 producers and/or exporters, including Daejin and KOWIRE. On September 21, 2021, the petitioner timely withdrew its request for 209 of the 213 companies.⁶

⁶ See Petitioner's Letter, “Certain Steel Nails from Korea—Withdrawal of Review Request,” dated September 21, 2021.

Because all requests for administrative review of the 209 companies were timely withdrawn, and no other parties requested review of these companies, Commerce is rescinding this review, in part, with respect to these 209 companies. On October 5, 2021, based on U.S. Customs and Border Protection (CBP) data, we selected Daejin and KOWIRE as the mandatory respondents in this administrative review.⁷ For a complete description of the events that followed the initiation of this review, see the Preliminary Decision Memorandum.

⁷ See Memorandum, “2020-2021 Administrative Review of the Antidumping Duty Order on Certain Steel Nails from the Republic of Korea: Respondent Selection,” dated October 5, 2021.

Scope of the Order

The merchandise subject to the Order is steel nails from Korea. For a complete description of the scope of the Order, see Preliminary Decision Memorandum.

Methodology

Commerce is conducting this review in accordance with sections 751(a)(1)(B) and (2) of the Act. Export price is calculated in accordance with section 772 of the Act. NV is calculated in accordance with section 773 of the Act.

For a full description of the methodology underlying these preliminary results, see the Preliminary Decision Memorandum. A list of the topics discussed in the Preliminary Decision Memorandum is attached as the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx/.

Preliminary Results of Review

As a result of this review, we preliminarily determine that the following weighted-average dumping margin exists for the period July 1, 2020, through June 30, 2021:

Producer/exporter | Weighted- average dumping margin (percent)
Daejin Steel Company | 4.38
Korea Wire Co., Ltd | 0.75
Je-il Wire Production Co., Ltd | 2.57
Koram Inc | 2.57

Disclosure and Public Comment

Commerce intends to disclose the calculations performed in connection with these preliminary results to interested parties within five days after the date of publication of this notice.⁸ Interested parties may submit case briefs to Commerce no later than 30 days after the date of publication of this notice.⁹ Rebuttal briefs, limited to issues raised in the case briefs, may be filed no later than seven days after the deadline for filing case briefs.¹⁰ Parties who submit case briefs or rebuttal briefs in this proceeding are encouraged to submit with each argument: (1) a statement of the issue; (2) a brief summary of the argument; and (3) a table of authorities.¹¹ Case and rebuttal briefs should be filed using ACCESS.¹²

⁸ See 19 CFR 351.224(b).

⁹ See 19 CFR 351.309(c)(1)(ii).

¹⁰ See 19 CFR 351.309(d); see also Temporary Rule Modifying AD/CVD Service Requirements Due to COVID19; Extension of Effective Period, 85 FR 41363 (July 10, 2020).

¹¹ See 19 CFR 351.309(c)(2) and (d)(2).

¹² See 19 CFR 351.303.

Pursuant to 19 CFR 351.310(c), interested parties who wish to request a hearing must submit a written request to the Assistant Secretary for Enforcement and Compliance filed electronically via ACCESS within 30 days after the date of publication of this notice.¹³ Hearing requests should contain: (1) the party's name, address, and telephone number; (2) the number of participants; and (3) a list of issues to be discussed. Oral presentations at the hearing will be limited to issues raised in the briefs. If a request for a hearing is made, parties will be notified of the time and date for the hearing.¹⁴ An electronically-filed document must be received successfully in its entirety by ACCESS by 5:00 p.m. Eastern Time on the established deadline.

¹³ See 19 CFR 351.310(c).

¹⁴ See 19 CFR 351.310(d).

Commerce intends to issue the final results of this administrative review, including the results of its analysis of issues raised in any written briefs, not later than 120 days after the date of publication of these preliminary results, unless otherwise extended.¹⁵

¹⁵ See section 751(a)(3)(A) of the Act; see also 19 CFR 351.213(h).

Assessment Rates

Upon issuance of the final results, Commerce shall determine, and CBP shall assess, antidumping duties on all appropriate entries covered by this review.¹⁶ For the companies for which we have rescinded this review, Commerce intends to instruct CBP to assess antidumping duties on all appropriate entries at a rate equal to the cash deposit rate of estimated antidumping duties required at the time of entry, or withdrawn from warehouse, for consumption, during the POR, in accordance with 19 CFR 351.212(c)(1)(i).

¹⁶ See 19 CFR 351.212(b)(1).

Pursuant to 19 CFR 351.212(b)(1), we calculated importer-specific ad valorem duty assessment rates based on the ratio of the total amount of dumping calculated for the examined sales to the total entered value of the sales for which entered value was reported. Where either the respondent's weighted-average dumping margin is zero or de minimis within the meaning of 19 CFR 351.106(c)(1), or an importer-specific rate is zero or de minimis, we will instruct CBP to liquidate the appropriate entries without regard to antidumping duties. The final results of this review shall be the basis for the assessment of antidumping duties on entries of merchandise covered by the final results of this review and for future deposits of estimated duties, where applicable.¹⁷

¹⁷ See section 751(a)(2)(C) of the Act.

For the companies (i.e., Je-il Wire Production Co., Ltd and Koram Inc.) that were not selected for individual examination, we will instruct CBP to assess antidumping duties at an ad valorem rate equal to the companies' weighted-average dumping margins determined in the final results of this review.

Commerce's “automatic assessment” will apply to entries of subject merchandise during the POR produced by companies included in these preliminary results of review for which the reviewed companies did not know that the merchandise it sold to the intermediary (e.g., a reseller, trading company, or exporter) was destined for the United States. In such instances, we will instruct CBP to liquidate unreviewed entries at the all-others rate if there is no rate for the intermediate company(ies) involved in the transaction.¹⁸

¹⁸ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of the subject merchandise entered, or withdrawn from warehouse, for consumption on or after the publication date of the final results of this administrative review, as provided by section 751(a)(2)(C) of the Act: (1) the cash deposit rate for the companies listed above will be equal to the weighted-average dumping margin established in the final results of this review, except if the rate is less than 0.50 percent and, therefore, de minimis within the meaning of 19 CFR 351.106(c)(1), in which case the cash deposit rate will be zero; (2) for previously reviewed or investigated companies not covered in this review, the cash deposit rate will continue to be the company-specific cash deposit rate published for the most recently completed segment in which the company was reviewed; (3) if the exporter is not a firm covered in this review, a prior review, or the original less-than-fair-value (LTFV) investigation, but the producer is, then the cash deposit rate will be the cash deposit rate established for the most recently completed segment of this proceeding for the producer of the merchandise; and (4) the cash deposit rate for all other producers or exporters will continue to be 11.80 percent, the all-others rate established in the LTFV investigation.¹⁹ These deposit requirements, when imposed, shall remain in effect until further notice.

¹⁹ See Certain Steel Nails from the Republic of Korea, Malaysia, the Sultanate of Oman, Taiwan, and the Socialist Republic of Vietnam: Antidumping Duty Orders, 80 FR 39994 (July 13, 2015).

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of doubled antidumping duties.

Notification to Interested Parties

Commerce is issuing and publishing these preliminary results in accordance with sections 751(a)(1) and 777(i)(1) of the Act, and 19 CFR 351.221(b)(4) and 351.213(d)(4).

Dated: July 27, 2022.
Lisa W. Wang,
Assistant Secretary for Enforcement and Compliance.

Appendix

List of Topics Discussed in the Preliminary Decision Memorandum

I. Summary

II. Background

III. Scope of the Order

IV. Rescission of Review, In Part

V. Discussion of the Methodology

VI. Currency Conversion

VII. Recommendation

[FR Doc. 2022-16643 Filed 8-3-22; 8:45 am]

BILLING CODE 3510-DS-P